ENVIRONMENTAL PROTECTION AGENCY

[FRL-9256-8]

Adequacy Status of the Houston-Galveston-Brazoria, Texas Reasonable Further Progress and Attainment Demonstration 8-Hour Ozone Motor Vehicle Emission Budgets for Transportation Conformity Purposes

AGENCY: Environmental Protection Agency (EPA).

ACTION: Notice of adequacy determination.

SUMMARY: EPA is notifying the public that it has found that the motor vehicle emissions budgets (MVEBs) in the Houston-Galveston-Brazoria, Texas (HGB) Reasonable Further Progress (RFP) and Attainment Demonstration State Implementation Plan (SIP) revisions, submitted on April 1st and April 6th, 2010 respectively, by the Texas Commission on Environmental Quality (TCEQ) are adequate for transportation conformity purposes. As a result of EPA's finding, the HGB area must use these budgets for future conformity determinations for the 1997 8-hour ozone standard.

DATES: These budgets are effective February 9, 2011.

FOR FURTHER INFORMATION CONTACT: The essential information in this notice will be available at EPA's conformity Web site: http://www.epa.gov/otaq/stateresources/transconf/adequacy.htm. You may also contact Mr. Jeffrey Riley, Air Planning Section (6PD-L), U.S. Environmental Protection Agency, Region 6, 1445 Ross Avenue, Dallas, Texas 75202-2733, telephone (214) 665-8542, E-mail address: Riley.Jeffrey@epa.gov.

SUPPLEMENTARY INFORMATION: Throughout this document “we,” “us,” and “our” refers to EPA. The word “budget(s)” refers to the mobile source emissions budget for volatile organic compounds (VOCs) and the mobile source emissions budget for nitrogen oxides (NOX).

On April 1st and April 6th, 2010, we received State Implementation Plan (SIP) revisions from the Texas Commission on Environmental Quality (TCEQ). These revisions consisted of a Reasonable Further Progress (RFP) SIP and an Attainment Demonstration SIP for the Houston-Galveston-Brazoria (HGB) ozone nonattainment area. These submissions established motor vehicle emissions budgets (MVEB) for the HGB area for the years 2008, 2011, 2014, 2017 and 2018. The MVEB is the amount of emissions allowed in the state implementation plan for on-road motor vehicles; it establishes an emissions ceiling for the regional transportation network. The MVEBs are provided in Tables 1 and 2:

Table 1—Houston-Galveston-Brazoria Reasonable Further Progress (RFP) NOX and VOC MVEBS
[Summer season tons per day]
| 2008 | 2011 | 2014 | 2017 | 2018
NOX | 193.39 | 135.74 | 95.26 | 67.95 | 60.92
VOC | 94.75 | 75.17 | 61.84 | 53.23 | 51.35

Table 2—Houston-Galveston-Brazoria Attainment Demonstration NOX and VOC MVEB
[Summer season tons per day]
| 2018
NOX | 49.22
VOC | 45.97

On June 24, 2010, EPA posted the availability of the HGB area budgets on EPA's Web site, as part of the adequacy process, for the purpose of soliciting public comments. The comment period closed on July 26, 2010, and we received no comments.

Today's notice is simply an announcement of a finding that EPA has already made. EPA Region 6 sent a letter to TCEQ on October 8, 2010, finding that the MVEBs in the HGB RFP and Attainment Demonstration SIPs, submitted on April 1st and April 6th, 2010 respectively, are adequate and must be used for transportation conformity determinations in the HGB area. This finding has also been announced on EPA's conformity Web site: http://www.epa.gov/otaq/stateresources/transconf/adequacy.htm.

Transportation conformity is required by section 176(c) of the Clean Air Act. EPA's conformity rule, 40 Code of Federal Regulations (CFR) part 93, requires that transportation plans, programs and projects conform to state air quality implementation plans and establishes the criteria and procedures for determining whether or not they do so. Conformity to a SIP means that transportation activities will not produce new air quality violations, worsen existing violations, or delay timely attainment of the national ambient air quality standards.

The criteria by which EPA determines whether a SIP's MVEB is adequate for transportation conformity purposes are outlined in 40 CFR 93.118(e)(4). We have also described the process for determining the adequacy of submitted SIP budgets in our July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it should not be used to prejudge EPA's ultimate approval of the HGB RFP SIP and Attainment Demonstration SIP revision submittals. Even if EPA finds the budgets adequate, these submittals could later be disapproved.

Within 24 months from the effective date of this notice, the transportation partners will need to demonstrate conformity to the new MVEBs if the demonstration has not already been made, pursuant to 40 CFR 93.104(e). See, 73 FR 4419 (January 24, 2008).

Authority: 42 U.S.C. 7401 et seq.

Dated: January 13, 2011.
Al Armendariz,
Regional Administrator, Region 6.

[FR Doc. 2011-1470 Filed 1-24-11; 8:45 am]

BILLING CODE 6560-50-P